DEPARTMENT OF THE TREASURY

Internal Revenue Service

26 CFR Part 1

[REG-136018-13]

RIN 1545-BM20

Determination of Adjusted Applicable Federal Rates Under Section 1288 and the Adjusted Federal Long-Term Rate Under Section 382; Hearing Cancellation

AGENCY: Internal Revenue Service (IRS), Treasury.

ACTION: Cancellation of a notice of public hearing on proposed rulemaking.

SUMMARY: This document cancels a public hearing on proposed regulations that provide the method to be used to adjust the applicable Federal rates (AFRs) under section 1288 of the Internal Revenue Code (adjusted AFRs) for tax-exempt obligations and the method to be used to determine the long-term tax-exempt and the adjusted Federal long-term rate under section 382.

DATES: The public hearing originally scheduled for June 24, 2015 at 10 a.m. is cancelled.

FOR FURTHER INFORMATION CONTACT: Oluwafunmilayo Taylor of the Publications and Regulations Branch, Legal Processing Division, Associate Chief Counsel (Procedure and Administration) at (202) 317-6901 (not a toll-free number).

SUPPLEMENTARY INFORMATION: A notice of proposed rulemaking and a notice of public hearing that appeared in the Federal Register on Monday, March 2, 2015 (80 FR 11141) announced that a public hearing was scheduled for June 24, 2015, at 10 a.m. in the IRS Auditorium, Internal Revenue Building, 1111 Constitution Avenue NW., Washington, DC. The subject of the public hearing is under sections 382, 483, 1273, and 1288 of the Internal Revenue Code.

The public comment period for these regulations expired on June 1, 2015. The notice of proposed rulemaking and notice of public hearing instructed those interested in testifying at the public hearing to submit a request to speak and an outline of the topics to be addressed. As of June 8, 2015, no one has requested to speak. Therefore, the public hearing scheduled for June 24, 2015 at 10 a.m. is cancelled.

Martin V. Franks,
Chief, Publications and Regulations Branch, Legal Processing Division, Associate Chief Counsel (Procedure and Administration).

[FR Doc. 2015-14623 Filed 6-12-15; 8:45 am]

BILLING CODE 4830-01-P